DEPARTMENT OF THE INTERIOR

National Park Service

[NPS-WASO-NRNHL-DTS#-29359; PPWOCRADI0, PCU00RP14.R50000]

National Register of Historic Places; Notification of Pending Nominations and Related Actions

AGENCY: National Park Service, Interior.

ACTION: Notice.

SUMMARY: The National Park Service is soliciting comments on the significance of properties nominated before November 16, 2019, for listing or related actions in the National Register of Historic Places.

DATES: Comments should be submitted by December 27, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 16, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Riverside County

Krisel Tract Home, 1882 S. Caliente Road (APN 511032005-9), 1882 South Caliente Rd., Palm Springs, Agua Caliente Indian Reservation, SG100004813

MARYLAND

Baltimore Independent City

Bayview Historic District, Roughly bounded by Eastern Ave., Anglesea St., East Pratt St. and Kane St., Baltimore, SG100004806

Greektown Historic District, Roughly bounded by B&O RR, Gough St., Umbra St. and O'Donnell St., Baltimore, SG100004807

Morgan Park Historic District, Roughly bounded by Herring Run Stream, East Cold Spring Lane and Charlton Ave., Baltimore, SG100004808

NEW YORK

Columbia County

Glenco Mills Methodist Church, 142 Old NY 82, Glenco Mills, SG100004818

Montgomery County

Danascara Place, 662 Mohawk Dr., Tribes Hill, SG100004819

PENNSYLVANIA

Allegheny County

First United Presbyterian Church of Braddock, 724 Parker Ave., Braddock, SG100004810

Roslyn Place Historic District, 506-523 & 525 Roslyn Place, Pittsburgh, SG100004811

Philadelphia County

Provident Mutual Insurance Company, 4601 Market St., Philadelphia, SG100004809

RHODE ISLAND

Providence County

State Home and School for Dependent and Neglected Children Historic District, Rhode Island College, East Campus, 600 Mount Pleasant Ave., Providence, SG100004820

UTAH

Washington County

Christensen, Herbert & Lillian, House, 980 Zion Park Blvd., Springdale, SG100004812

Additional documentation has been received for the following resource:

MINNESOTA

Wabasha County

Wabasha Commercial Historic District, Roughly along Main St. between Bridge and Bailey Aves., Wabasha, AD82003063

Nominations submitted by Federal Preservation Officers:

The State Historic Preservation Officer reviewed the following nominations and responded to the Federal Preservation Officer within 45 days of receipt of the nominations and supports listing the properties in the National Register of Historic Places.

CALIFORNIA

San Bernardino County

Soda Springs Historic District, 4.8 miles south of I 15, on Zzyzx Rd., Baker vicinity, SG100004814

Mescal Mining District, 9.1 miles southeast of the intersection of Cima Rd. and I 15, Cima vicinity, SG100004815

Authority: Section 60.13 of 36 CFR part 60.

Dated: November 20, 2019.
Julie H. Ernstein,
Supervisory Archeologist, National Register of Historic Places/National Historic Landmarks Program.

[FR Doc. 2019-26739 Filed 12-11-19; 8:45 am]

BILLING CODE 4312-52-P